DEPARTMENT OF LABOR

Pension and Welfare Benefits Administration

Working Group on Benefit Continuity After a Business Transaction; Advisory Council on Employee Welfare and Pension Benefits Plans; Notice of Meeting

Pursuant to the authority contained in section 512 of the Employee Retirement Income Security Act of 1974 (ERISA), 29 U.S.C. 1142, a public meeting will be held Tuesday, May 9, 2000, of the Advisory Council on Employee Welfare and Pension Benefit Plans newly-established Working Group on Benefit Continuity After a Business Transaction.

The session will take place in Room N-5437 A-D, U.S. Department of Labor Building, Second and Constitution Avenue, NW., Washington, DC 20210. The purpose of the open meeting, which will run from 9:30 a.m. to approximately noon, if for working group members to set its agenda for 1999 and begin taking testimony on the subject. Names as chair to head the group is Rebecca Miller from Rochester, Minn., Partner with McGladrey & Pullen LLP, and vice chair is Janie Greenwood Harris, from St. Loius, Mo., Trust Counsel for the FIRSTAR Corporation, Inc.

Members of the public are encouraged to file a written statement pertaining to the topic by submitting 20 copies on or before April 30, 2000, to Sharon Morrissey, Executive Secretary, ERISA Advisory Council, U.S. Department of Labor, Room N-5677, 200 Constitution Avenue, NW., Washington, DC 20210. Individuals or representatives of organizations wishing to address the Working Group should forward their request to the Executive Secretary or telephone (202) 219-8753. Oral presentations will be limited to 10 minutes, but an extended statement may be submitted for the record. Individuals with disabilities, who need special accommodations, should contact Sharon Morrissey by April 30, at the address indicated in this notice.

Organizations or individuals may also submit statements for the record without testifying. Twenty (20) copies of such statements should be sent to the Executive Secretary of the Advisory Council at the above address. Papers will be accepted and included in the record of the meeting if received on or before April 30.

Signed at Washington, DC this 7th day of April 2000.
Leslie Kramerich,
Acting Assistant Secretary, Pension and Welfare Benefits Administration.

[FR Doc. 00-9340 Filed 4-13-00; 8:45 am]

BILLING CODE 4510-29-M